DEPARTMENT OF COMMERCE

Foreign-Trade Zones Board

[Order No. 1725]

Reorganization of Foreign-Trade Zone 26 Under Alternative Site Framework, Atlanta, GA

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09) as an option for the establishment or reorganization of general-purpose zones;

Whereas, the Georgia Foreign-Trade Zone, Inc., grantee of Foreign-Trade Zone 26, submitted an application to the Board (FTZ Docket 22-2010, filed 3/25/2010, amended 9/24/2010) for authority to reorganize under the ASF with a service area that includes the Georgia counties of Haralson, Paulding, Polk, Floyd, Bartow, Chattooga, Gordon, Pickens, Gilmer, Walker, Whitfield, Murray, Forsyth, Dawson, Hall, Banks, Lumpkin, Fulton, DeKalb, Gwinnett, Cobb, Douglas, Clayton, Henry, Fayette, Rockdale, Cherokee, Carroll, Coweta, Heard, Troup, Meriwether, Pike, Spalding, Butts, Lamar, Upson, Jasper, Newton, Morgan, Greene, Walton, Oconee, Clarke, Barrow, Jackson, Bibb, Crawford, Jones, Monroe, Putnam, Richmond, Harris, Talbot and Muscogee in their entirety and portions of White, Franklin, Peach, Houston, and Twiggs Counties, in and adjacent to the Atlanta Customs and Border Protection port of entry with the exception of Walker, Whitfield, and Murray Counties which are adjacent to the Chattanooga Customs and Border Protection port of entry, and Richmond County which is adjacent to the Columbia Customs and Border Protection port of entry, FTZ 26's existing Sites 1 through 18 would be categorized as magnet sites, and existing Site 19 would be categorized as a usage-driven site;

Whereas, notice inviting public comment was given in the Federal Register (75 FR 17126-17127, 4/5/2010) and the application has been processed pursuant to the FTZ Act and the Board's regulations; and,

Whereas, the Board adopts the findings and recommendation of the examiner's report, and finds that the requirements of the FTZ Act and Board's regulations are satisfied, and that the proposal is in the public interest;

Now, Therefore, the Board hereby orders:

The application to reorganize FTZ 26 under the alternative site framework is approved, subject to the FTZ Act and the Board's regulations, including Section 400.28, to the Board's standard 2,000-acre activation limit for the overall general-purpose zone project, to a five-year ASF sunset provision for magnet sites that would terminate authority for Sites 1 through 18 if not activated by November 30, 2015, and to a three-year ASF sunset provision for usage-driven sites that would terminate authority for Site 19 if no foreign-status merchandise is admitted for a bona fide customs purpose by November 30, 2013.

Signed at Washington, DC, this 26th day of November 2010.
Ronald K. Lorentzen,
Deputy Assistant Secretary for Import Administration Alternate Chairman, Foreign-Trade Zones Board.
Andrew McGilvray,
Executive Secretary.

[FR Doc. 2010-31108 Filed 12-9-10; 8:45 am]

BILLING CODE P